DEPARTMENT OF TRANSPORTATION

Federal Aviation Administration

14 CFR Part 39

[Docket No. FAA-2007-0373; Directorate Identifier 2006-SW-14-AD]

RIN 2120-AA64

Airworthiness Directives; Erickson Air-Crane Incorporated Model S-64E and S-64F Helicopters

AGENCY: Federal Aviation Administration (FAA), DOT.

ACTION: Proposed rule; withdrawal.

SUMMARY: The FAA is withdrawing a notice of proposed rulemaking (NPRM) that proposed to adopt a new airworthiness directive (AD) that would have applied to Erickson Air-Crane Incorporated (now Erickson Incorporated) (Erickson) Model S-64E and S-64F helicopters. The NPRM was prompted by several reports of cracking in the strap and pocket areas of the tail rotor blade. The NPRM would have required inspecting certain tail rotor blade assemblies (blade assembly) for a crack and replacing any cracked blade assembly. Since issuance of the NPRM, the FAA has determined that the unsafe condition no longer exists. Accordingly, the NPRM is withdrawn.

DATES: The FAA is withdrawing the proposed rule published December 31, 2007 (72 FR 74210), as of March 15, 2021.

ADDRESSES:

Examining the AD Docket

You may examine the AD docket on the internet at https://www.regulations.gov by searching for and locating Docket No. FAA-2007-0373; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Jonas Perez, Aerospace Engineer, ACO Branch, Compliance & Airworthiness Division, FAA, 10101 Hillwood Pkwy., Fort Worth, TX 76177; phone: (817) 222-5145; email: jonas.perez@faa.gov.

SUPPLEMENTARY INFORMATION:

Discussion

The FAA has issued an NPRM that proposed to amend 14 CFR part 39 by adding an AD that would apply to Erickson Model S-64E and S-64F helicopters with a blade assembly part number 65161-00001-042 or -043 installed. The NPRM was published in the Federal Register on December 31, 2007 (72 FR 74210). The NPRM was prompted by several reports of cracking in the strap and pocket areas of the tail rotor blade.

The NPRM proposed to require determining whether the blade assembly has an affected serial number or part marking. If a blade assembly had a certain serial number or part marking, the NPRM then proposed to require an initial and repetitive inspection of the blade assembly for a crack in the strap and pocket areas. If a crack was found, the NPRM also proposed to require, before further flight, replacing the blade assembly with an airworthy blade assembly that does not have an affected serial number or part marking. The proposed actions were intended to prevent failure of the tail rotor blade and subsequent loss of control of the helicopter.

Actions Since the NPRM Was Issued

Since issuance of the NPRM, the design approval holder has reviewed its records and determined that the affected blade assemblies have been removed from service. Therefore, the FAA has determined that AD action is not required and the NPRM is withdrawn.

Withdrawal of the NPRM constitutes only such action and does not preclude the FAA from further rulemaking on this issue, nor does it commit the FAA to any course of action in the future.

Comments

The FAA gave the public the opportunity to comment on the NPRM. The FAA received comments from one commenter.

Erickson requested deletions, corrections, and additions to the NPRM. The FAA acknowledges the commenter's requests. However, because the FAA is withdrawing the NPRM, the commenter's request is no longer necessary.

FAA's Conclusions

Upon further consideration of the available information, the FAA has determined that the NPRM is unnecessary. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2007-0373, Directorate Identifier 2006-SW-14-AD, which was published in the Federal Register on December 31, 2007 (72 FR 74210), is withdrawn.

Issued on March 8, 2021.
Gaetano A. Sciortino,
Deputy Director for Strategic Initiatives, Compliance & Airworthiness Division, Aircraft Certification Service.

[FR Doc. 2021-05219 Filed 3-12-21; 8:45 am]

BILLING CODE 4910-13-P